DEPARTMENT OF DEFENSE

GENERAL SERVICES ADMINISTRATION

NATIONAL AERONAUTICS AND SPACE ADMINISTRATION

48 CFR Parts 7, 12, and 39

[FAR Case 2005-041; Docket 2006-0020; Sequence 7]

RIN 9000-AK57

Federal Acquisition Regulation; FAR Case 2005-041, Internet Protocol Version 6 (IPv6)

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to require Internet Protocol Version 6 (IPv6) capable products be included in information technology procurements to the maximum extent practicable.

DATES: Interested parties should submit written comments to the FAR Secretariat on or before October 23, 2006 to be considered in the formulation of a final rule.

ADDRESSES: Submit comments identified by FAR case 2005-041 by any of the following methods:

• Federal eRulemaking Portal: http://www.regulations.gov. Search for this document at the “Federal Acquisition Regulation” agency and review the “Document Title” column; click on the Document ID number. Click on “add comments”.

You may also search for any document using the “Advanced search/document search” tab, selecting from the agency field “Federal Acquisition Regulation”, and typing the FAR case number in the keyword field.

• Fax: 202-501-4067.

• Mail: General Services Administration, Regulatory Secretariat (VIR), 1800 F Street, NW, Room 4035, ATTN: Laurieann Duarte, Washington, DC 20405.

Instructions: Please submit comments only and cite FAR case 2005-041 in all correspondence related to this case. All comments received will be posted without change to http://www.regulations.gov, including any personal and/or business confidential information provided.

FOR FURTHER INFORMATION CONTACT For clarification of content, contact Ms. Cecelia Davis, Procurement Analyst, at (202) 219-0202. The TTY Federal Relay Number for further information is 1-800-877-8973. For information pertaining to status or publication schedules, contact the FAR Secretariat at (202) 501-4755. Please cite FAR case 2005-041.

SUPPLEMENTARY INFORMATION:

A. Background

The internet protocol is one of the primary mechanisms that define how and where information moves across networks, e.g., voice, video, and text. Currently Internet Protocol Version 4 (IPv4) is the industry standard used and has about 4.3 billion address spaces. Key characteristics of IPv6 are designed to significantly increase internet address space, promote flexibility and functionality, and enhance security. Agencies can reduce costly upgrades and the complexity of transitioning to IPv6 by proactively integrating IPv6 requirements into Federal contracts.

On August 2, 2005, OMB issued a memo (Memorandum M-05-22, Transition Planning for Internet Protocol Version 6 (IPv6)) giving guidance to agencies to transition from IPv4 to IPv6, and required agencies to implement full use of IPv6 in network backbones by June 2008. OMB further requires, to the maximum extent practicable, all new IT procurements include IPv6 capable products and systems. Any exceptions to the use of IPv6 will require advance written approval from the agency CIO.

This rule proposes amending the FAR by—

1. Adding a new paragraph (A)(2) in FAR 7.105 (b)(4)(ii) to ensure agency planners comply with the Internet Protocol Version 6 (IPv6) capability requirements as a part of acquisition planning;

2. Adding paragraph (e) to FAR 12.202 to state that requirements documents for information technology shall include Internet Protocol Version 6 (IPv6) capable products and services; and

3. Adding paragraph (e) to FAR 39.101 to state when acquiring information technology, agencies shall include the appropriate requirements for Internet Protocol Version 6 (IPv6) capable products and services, and for agencies to establish procedures for granting exceptions.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because IPv6 requires use of commercially available products, and no new standards or testing is required. An Initial Regulatory Flexibility Analysis has, therefore, not been performed. We invite comments from small businesses and other interested parties. The Councils will consider comments from small entities concerning the affected FAR Parts 7, 12, and 39 in accordance with 5 U.S.C. 610. Interested parties must submit such comments separately and should cite 5 U.S.C. 601, et seq. (FAR case 2005-041), in correspondence.

C. Paperwork Reduction Act

The Paperwork Reduction Act does not apply because the proposed changes to the FAR do not impose information collection requirements that require the approval of the Office of Management and Budget under 44 U.S.C. 3501, et seq.

List of Subjects in 48 CFR Parts 7, 12, and 39

Government procurement.

Dated: August 16, 2006.
Ralph De Stefano,
Director, Contract Policy Division.

Therefore, DoD, GSA, and NASA propose amending 48 CFR parts 7, 12, and 39 as set forth below:

1. The authority citation for 48 CFR parts 7, 12, and 39 continues to read as follows:

Authority: 40 U.S.C. 121(c); 10 U.S.C. chapter 137; and 42 U.S.C. 2473(c).

PART 7—ACQUISITION PLANNING

2. Amend section 7.105 by revising paragraph (b)(4)(ii)(A) to read as follows:

7.105 Contents of written acquisition plans.

* * * * *

(b) * * *

(4) * * *

(ii) * * *

(A) For information technology acquisitions—

(1) How the capital planning and investment control requirements of 40 U.S.C. 11312 and OMB Circular A-130 will be met (see 7.103(t) and Part 39); and

(2) How the acquisition will comply with the Internet Protocol Version 6 (IPv6) capability requirements as outlined in OMB Memorandum M-05-22, Transition Planning for Internet Protocol Version 6 (IPv6), and additional requirements for IPv6 at http://www.cio.gov.

* * * * *

PART 12—ACQUISITION OF COMMERCIAL ITEMS

3. Amend section 12.202 by adding paragraph (e) to read as follows:

12.202 Market research and description of agency need.

* * * * *

(e) Requirements documents for information technology solutions must include Internet Protocol Version 6 (IPv6) capability as outlined in the OMB Memorandum M-05-22, Transition Planning for Internet Protocol Version 6 (IPv6), and additional requirements for IPv6 at http://www.whitehouse.gov/omb/memoranda/fy2005/m05-22.pdf.

PART 39—ACQUISITION OF INFORMATION TECHNOLOGY

4. Amend section 39.101 by adding paragraph (e) to read as follows:

39.101 Policy.

* * * * *

(e) In acquiring information technology solutions, agencies must include the appropriate Internet Protocol Version 6 (IPv6) capability requirements as outlined in the OMB Memorandum M-05-22, Transition Planning for Internet Protocol Version 6 (IPv6). Agencies must establish procedures for exceptions.

[FR Doc. 06-7126 Filed 8-23-06; 8:45 am]

BILLING CODE 6820-EP-S